NATIONAL FOUNDATION ON THE ARTS AND THE HUMANITIES

Institute of Museum and Library Services

Submission for OMB Review, Comment Request, Proposed Collection: IMLS Evaluation of Four Grant Programs Serving Native American, Native Hawaiian, and Alaska Native Communities

AGENCY: Institute of Museum and Library Services, National Foundation on the Arts and the Humanities.

ACTION: Submission for OMB Review, request for comments, collection of information.

SUMMARY: The Institute of Museum and Library Services announces that the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed. This Notice proposes the clearance of the IMLS Evaluation of Four Grant Programs Serving Native American, Native Hawaiian, and Alaska Native Communities. A copy of the proposed information collection request can be obtained by contacting the individual listed below in the FOR FURTHER INFORMATION CONTACT section of this Notice.

DATES: Written comments must be submitted to the office listed in the ADDRESSES section below on or before July 20, 2022.

ADDRESSES: Written comments and recommendations for proposed information collection requests should be sent within 30 days of publication of this Notice to www.reginfo.gov/public/do/PRAMain. Find this particular information collection request by selecting “Institute of Museum and Library Services” under “Currently Under Review;” then check the “Only Show ICR for Public Comment” checkbox. Once you have found this information collection request, select “Comment,” and enter or upload your comment and information. Alternatively, please mail your written comments to the Office of Information and Regulatory Affairs, Attn.: OMB Desk Officer for Education, Office of Management and Budget, Room 10235, Washington, DC 20503, or call (202) 395-7316.

OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

FOR FURTHER INFORMATION CONTACT: Matthew Birnbaum, Ph.D., Supervising Social Scientist, Office of Research and Evaluation, Institute of Museum and Library Services, 955 L'Enfant Plaza North SW, Suite 4000, Washington, DC 20024-2135. Dr. Birnbaum can be reached by telephone at 202-653-4760, or by email at mbirnbaum@imls.gov. Persons who are deaf or hard of hearing (TTY users) can contact IMLS at 202-207-7858 via 711 for TTY-Based Telecommunications Relay Service.

SUPPLEMENTARY INFORMATION: The Institute of Museum and Library Services is the primary source of federal support for the nation's libraries and museums. We advance, support, and empower America's museums, libraries, and related organizations through grantmaking, research, and policy development. To learn more, visit www.imls.gov.

Current Actions: This Notice proposes the clearance of the IMLS Evaluation of Four Grant Programs Serving Native American, Native Hawaiian, and Alaska Native Communities. The 60-day Notice was published in the Federal Register on January 14, 2022 (87 FR 2464-2465). No public comments were received under this Notice.

IMLS has four active grant programs designed to serve Native American, Native Hawaiian, and Alaska Native communities: the Native American Library Services: Basic Grants; Native American Library Services: Enhancement Grants; Native American/Native Hawaiian Museum Services; and Native Hawaiian Library Services. The purpose of this evaluation is to determine how well the agency's grantmaking aligns with the needs of communities served by these specific programs; lay a foundation for improving the quality, reach, and impact of the agency's grant programs in the future; and inform increasing organizational capacity of eligible applicants to submit high-quality grant applications and of awardees to complete their award responsibilities successfully.

The evaluation will focus on the experiences of those who have prepared and submitted applications and those who have received awards through each of the four IMLS programs. It will also aim to determine whether such experiences differed before and during the COVID-19 pandemic. The specific primary information collection activities are:

1. semi-structured interviews with grantees, unsuccessful applicants, eligible non-applicants, service and intertribal organizations, funders, tribal leadership, and IMLS staff,

2. a survey of grantees and eligible non-applicants, and

3. a virtual convening of grantees, unsuccessful applicants, and eligible non-applicants using an appreciative inquiry model and a benefits-based, semi-structured discussion format.

This qualitative information collection will be coupled with a secondary analysis of publicly available information and IMLS administrative data relating to applications, awarded grants, and information extracted from grantees' interim and final performance reports.

IMLS will use the evaluation findings to establish a foundation for improving the quality, reach, and impact of the agency's grant programs in the future. IMLS will publicly post the final evaluation report on imls.gov and host at least one public virtual meeting to share and invite discussion of the findings.

Agency: Institute of Museum and Library Services.

Title: IMLS Evaluation of Four Grant Programs Serving Native American, Native Hawaiian, and Alaska Native Communities.

OMB Control Number: 3137-NEW.

Agency Number: 3137.

Affected Public: Museum and library professionals working at organizations that have sought or would like to seek public funding through IMLS's grant programs serving Native American, Native Hawaiian, and Alaska Native communities; individuals representing service and intertribal organizations; community leaders; and individuals working in public and private funding organizations.

Total Number of Respondents: 418.

Frequency of Response: Once per request.

Average Hours per Response: 0.64.

Total Burden Hours: 262.5.

Total Annualized Capital/Startup Costs: n/a.

Total Annual Cost Burden: $8,991.05.

Total Annual Federal Costs: $10,216.46.

Dated: June 15, 2022.
Suzanne Mbollo,
Grants Management Specialist, Institute of Museum and Library Services.

[FR Doc. 2022-13188 Filed 6-17-22; 8:45 am]

BILLING CODE 7036-01-P